DEPARTMENT OF ENERGY

Federal Energy Regulatory Commission

[Docket No. CP16-125-000]

National Fuel Gas Supply Corporation; Notice of Application

Take notice that on April 4, 2016, National Fuel Gas Supply Corporation (National Fuel), 6363 Main Street, Williamsville, New York 14221, filed an application pursuant to sections 7(b) and 7(c) of the Natural Gas Act (NGA), and Part 157 of the Commission's regulations requesting authority to construct, replace, and abandon existing pipelines and modify compressor facilities along the T2K, TNY, and KNY natural gas pipelines, all as more fully set forth in the application which is on file with the Commission and open to public inspection. The cost for the proposed project work is $29,382,602.

Any questions concerning this application should be directed to Laura P. Berloth, Attorney, National Fuel Gas Supply Corporation, 6363 Main Street, Williamsville, New York 14221-5887, by phone at (716) 857-7001, by fax at (716) 857-7206, or by email at berlothl@natfuel.com.

Specifically, National Fuel seeks to; (i) construct and operate 1.2 miles of new 20-inch-diameter pipeline, adding 2,600 dekatherms per day (Dth/d) of new firm service capacity (Line T2K Install); (ii) replace approximately 6.7 miles of 20-inch-diameter bare steel pipeline with 7.0 miles of new 24-inch-diameter coated pipeline (Line TNY Replacement); and (iii) abandon approximately 14.9 miles of 20-inch-diameter bare steel pipeline (Line KNY Abandonment), all located in Erie County, New York.

The filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659.

Pursuant to section 157.9 of the Commission's rules (18 CFR 157.9), within 90 days of this Notice, the Commission staff will either: Complete its environmental assessment (EA) and place it into the Commission's public record (eLibrary) for this proceeding or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy regulatory Commission, 888 First Street NE., Washington, DC 20426.

Comment Date: 5:00 p.m. Eastern Time on May 6, 2016.

Dated: April 15, 2016.
Kimberly D. Bose,
Secretary.

[FR Doc. 2016-09227 Filed 4-20-16; 8:45 am]

BILLING CODE 6717-01-P